ENVIRONMENTAL PROTECTION AGENCY

[EPA-HQ-OAR-2020-0631; FRL-8973-01-OMS]

Information Collection Request Submitted to OMB for Review and Approval; Comment Request; NSPS for Hot Mix Asphalt Facilities (Renewal)

AGENCY: Environmental Protection Agency (EPA).

ACTION: Notice.

SUMMARY: The Environmental Protection Agency (EPA) has submitted an information collection request (ICR), NSPS for Hot Mix Asphalt Facilities (EPA ICR Number 1127.13, OMB Control Number 2060-0083), to the Office of Management and Budget (OMB) for review and approval in accordance with the Paperwork Reduction Act. This is a proposed extension of the ICR, which is currently approved through December 31, 2021. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 8, 2021.

ADDRESSES: Submit your comments, referencing Docket ID Number EPA-HQ-OAR-2020-0631 online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Hot Mix Asphalt Facilities (40 CFR part 60, subpart I) apply to hot mix asphalt facilities comprised only of a combination of the following: Dryers; systems for screening, handling, storing, and weighing hot aggregate; systems for loading, transferring, and storing mineral filler; systems for mixing hot mix asphalt; and the loading, transfer, and storage systems associated with emission control systems. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Hot mix asphalt facilities.

Respondent's obligation to respond: Mandatory (40 CFR part 60, subpart I).

Estimated number of respondents: 828 (total).

Frequency of response: Initially and occasionally.

Total estimated burden: 4,120 hours (per year). Burden is defined at 5 CFR 1320.3(b).

Total estimated cost: $488,000 (per year), which includes $0 in annualized capital/startup and/or operation & maintenance costs.

Changes in the Estimates: There is a decrease in the total estimated burden as currently identified in the OMB Inventory of Approved Burdens. This decrease is not due to any program changes. The decrease in burden from the most-recently approved ICR is due to a decrease in the number of sources. This ICR reflects a decrease in the number of respondents and additional respondents that the Agency anticipates will become subject to these standards or modify existing facilities. The estimates in the current approved ICR were based on estimates collected in 2008 and adjusted for growth over time. This ICR adjusts the number of respondents based on a review of facilities identified in EPA's Enforcement and Compliance History Online (ECHO) database, assuming a similar rate of growth and modification of existing facilities (about two and three percent, respectively). EPA's ECHO database is the most-recent source of facility information available for hot mix asphalt facilities and should reflect a more accurate estimate of existing facilities. We have assumed a similar rate of growth and modification of existing facilities due to anticipated continuous demand within the asphalt mixing industry. This ICR also corrects an error from the most-recently approved ICR by accounting for the burden for responses for notifications of performance tests for respondents required to conduct a repeat performance test. The overall result is a decrease in burden.

Courtney Kerwin,
Director, Regulatory Support Division.

[FR Doc. 2021-19473 Filed 9-7-21; 8:45 am]

BILLING CODE 6560-50-P